DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Community Anti-Drug Coalition Institute Annual Coalition Survey and Database—New—The Substance Abuse and Mental Health Services Administration's (SAMHSA) Center for Substance Abuse Prevention has established the National Community Anti-Drug Coalition Institute through a grant to the Community Anti-Drug Coalitions of America (CADCA). The purpose of the Annual Coalition Survey and Database project is to collect and report on data which identify and describe the types of community coalitions across our nation, and the activities in which they are involved. This information will help SAMHSA encourage and assist in the development of effective community coalitions and strategies designed to prevent illicit drug and underage alcohol and tobacco use. These data will also permit SAMHSA to address its responsibilities and measure performance as delineated in the HP2010 objective 26-23: to increase the number of communities using partnerships or coalition models to conduct comprehensive substance abuse prevention efforts.

To track progress in achieving this objective, SAMHSA will use these data to develop a national inventory of anti-drug coalitions and partnerships that can be updated annually in order to determine the number of community anti-drug coalitions in operation. Based on the coalition literature and input from the field, the inventory will include information on important characteristics, such as operational status, organizational type, target population served, funding sources, geographic location, and major community sector involvement, including faith, business, school, service, and law sectors. The “snowball” method will be employed to obtain lists of local anti-drug coalitions who will be asked to complete the web based survey. The proposed project will yield an electronic directory, developed by experts, to describe the range of operational definitions of “community anti-drug coalitions.” The inventory will be based on a variety of typologies of coalitions and partnerships (including the coalitions who receive grants from the Drug Free Communities Support Program that will encompass the breadth of coalition activities. It is anticipated that the resulting electronic directory will be made available to the field through a web-based database that will be managed, maintained, and updated by the Institute.

The annual burden associated with this survey is summarized in the following table.

Number of respondents | Responses/respondent | Burden/response (hrs.) | Total burden hours
4,000 | 1 | .75 | 3,000

Send comments to Nancy Pearce, SAMHSA Reports Clearance Officer, Room 16-105, Parklawn Building, 5600 Fishers Lane, Rockville, MD 20857. Written comments should be received within 60 days of this notice.

Dated: September 15, 2003.
Anna Marsh,
Acting Executive Officer, Substance Abuse and Mental Health Services Administration.

[FR Doc. 03-24072 Filed 9-18-03; 12:01 pm]

BILLING CODE 4162-20-P